DEPARTMENT OF AGRICULTURE

Submission for OMB Review; Comment Request

July 8, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Survey of Meat Slaughter and Processing Establishments.

OMB Control Number: 0583-New.

Summary of Collection: The Food Safety and Inspection Service (FSIS) has been delegated the authority to exercise the functions of the Secretary as provided in the Federal Meat Inspection Act (FMIA) (21 U.S.C. 601 et seq.). These statutes mandate that FSIS protect the public by verifying that meat products are safe, wholesome, unadulterated, and properly labeled and packaged. To assist FSIS in meeting its strategic goal to protect public health by significantly reducing the prevalence of foodborne hazards from meat products, the agency requires accurate and up-to-date information about industry's use of food safety practices and technologies. FSIS conducted a survey of establishments in 2004 to collect information on food safety practices and technologies. This was a part of a broader effort that also surveyed the egg, poultry, and meat and poultry processing industries from 2003-2006. FSIS needs to survey the meat slaughter industry again so that the agency has the most current information on industry practices for conducting regulatory impact analyses as required by the Office of Management and Budget.

Need and Use of the Information: The data collected in the survey will provide reliable and valid information regarding food safety practices in the meat industry that can be used to address a broad variety of the agency's analyses needs. FSIS will also use the survey data to provide information for evaluating the effectiveness of FSIS programs and to conduct trend analyses to assess if industry's application of food safety technologies, sanitation practices, health risk reduction, and recall readiness has improved since the initial survey was conducted. Without the information, the regulatory and economic impact analysis that FSIS is required by statute to conduct could be incomplete or misleading.

Description of Respondents: Business or other for-profit.

Number of Respondents: 590.

Frequency of Responses: Reporting: Other (once).

Total Burden Hours: 452.

Ruth Brown,
Departmental Information Collection Clearance Officer.

[FR Doc. 2014-16305 Filed 7-11-14; 8:45 am]

BILLING CODE 3410-DM-P